DEPARTMENT OF ENERGY

Federal Energy Regulatory Commission

[Docket No. RP00-505-002]

Kern River Gas Transmission Company; Notice of Compliance Filing

March 14, 2001.

Take notice that on March 9, 2001, Kern River Gas Transmission Company (Kern River) tendered for filing as part of its FERC Gas Tariff, Second Revised Volume No. 1, the following tariff sheets:

Substitute First Revised Sheet No. 97

Substitute Original Sheet No. 98-A

Substitute First Revised Sheet No. 107

Substitute First Revised Sheet No. 108

Substitute First Revised Sheet No. 135

Substitute First Revised Sheet No. 532

Substitute First Revised Sheet No. 533

Substitute First Revised Sheet No. 534

Substitute First Revised Sheet No. 546

Substitute First Revised Sheet No. 548

Substitute First Revised Sheet No. 632

Substitute First Revised Sheet No. 633

Substitute First Revised Sheet No. 646

Substitute First Revised Sheet No. 647

Substitute First Revised Sheet No. 733

Substitute First Revised Sheet No. 734

Substitute First Revised Sheet No. 747

Substitute First Revised Sheet No. 749

Substitute First Revised Sheet No. 812

Substitute First Revised Sheet No. 813

Substitute First Revised Sheet No. 868

Substitute First Revised Sheet No. 870

Kern River states that the purpose of this filing is to comply with the Commission's Order which directed Kern River to file revised tariff sheets to remove the requirement for pro rata entitlement reductions at specific receipt and delivery points in the event of a partial capacity turnback, and to remove all references to “volumetric” portions of transportation, in provisions pertaining to right of first refusal and capacity release.

Kern River states that it has served a copy of this filing upon each person designated on the official service list compiled by the Secretary in this proceeding.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Secretary.

[FR Doc. 01-6872 Filed 3-19-01; 8:45 am]

BILLING CODE 6717-01-M